DEPARTMENT OF JUSTICE

Notice of Lodging of Consent Decree Under the Comprehensive Environmental Response, Compensation and Liability Act

Notice is hereby given that on July 7, 2011, a proposed Consent Decree in United States v. Fairchild Semiconductor Corp., et al., Civil Action No. 3:11-CV-01261 was lodged with the United States District Court for the Middle District of Pennsylvania.

In this action the United States sought reimbursement of costs of removal and remedial action in connection with the release or threatened release of hazardous substances at the South Mountain Boulevard TCE Site (the “Site”) in Mountain Top, Luzerne County, Pennsylvania. The Consent Decree requires Fairchild Semiconductor Corporation, General Electric Company, Harris Corporation, and Intersil Corporation to pay $428,960 in resolution of the United States' claim for response costs incurred and to be incurred at the Site under Section 107(a) of the Comprehensive Environmental Response, Compensation and Liability Act through the effective date of the consent decree.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. Fairchild Semiconductor Corp., et al., D.J. Ref. 90-11-3-09634.

During the public comment period, the Consent Decree, may also be examined on the following Department of Justice Web site, to http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. If requesting a copy from the Consent Decree Library by mail, please enclose a check in the amount of $4.50 (25 cents per page reproduction cost) payable to the U.S. Treasury or, if requesting by e-mail or fax, forward a check in that amount to the Consent Decree Library at the address given above.

Bob Brook,
Assistant Chief, Environmental, Enforcement Section, Environment and Natural Resources Division.

[FR Doc. 2011-17568 Filed 7-12-11; 8:45 am]

BILLING CODE 4410-15-P